DEPARTMENT OF VETERANS AFFAIRS

[OMB Control No. 2900-0061]

Agency Information Collection (Request for Supplies (Chapter 31—Vocational Rehabilitation)) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before December 5, 2008.

ADDRESSES: Submit written comments on the collection of information through http://www.Regulations.gov or to VA's OMB Desk Officer, OMB Human Resources and Housing Branch, New Executive Office Building, Room 10235, Washington, DC 20503, (202) 395-7316. Please refer to “OMB Control No. 2900-0061” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-0061.”

SUPPLEMENTARY INFORMATION: Title: Request for Supplies (Chapter 31—Vocational Rehabilitation), VA Form 28-1905m.

OMB Control Number: 2900-0061.

Type of Review: Extension of a currently approved collection.

Abstract: VA Form 28-1905m is used to request supplies for veterans in rehabilitation programs. The official at the facility providing rehabilitation services to the veteran completes the form and certifies that the veteran needs the supplies for his or her program and that the veteran does not have the requested item in his or her possession and the veteran certifies that he or she is not in possession of any of the supplies listed on the form.

An agency may not conduct or sponsor, and a person is not required to respond to a collection of information unless it displays a currently valid OMB control number. The Federal Register Notice with a 60-day comment period soliciting comments on this collection of information was published on August 27, 2008, at pages 50672-50673.

Affected Public: Not-for-profit institutions, individuals or households, business or other for-profit, and farms.

Estimated Annual Burden: 12,000 hours.

Estimated Average Burden per Respondent: 60 minutes.

Frequency of Response: On occasion.

Estimated Number of Respondents: 12,000.

Dated: October 28, 2008.
By direction of the Secretary.
Denise McLamb,
Program Analyst, Records Management Service.

[FR Doc. E8-26358 Filed 11-4-08; 8:45 am]

BILLING CODE 8320-01-P